DEPARTMENT OF JUSTICE

Antitrust Division

Notice Pursuant to the National Cooperative Research and Production Act of 1993—National Center for Manufacturing Sciences, Inc.

Notice is hereby given that, on December 20, 2000, pursuant to Section 6(a) of the National Cooperative Research and Production Act of 1993, 15 U.S.C. 4301 et seq. (“the Act”), the National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances. Specifically, Didactics, Inc., Alexandria, VA; Opticore, Inc., Troy, MI; and VE Technologies, Inc., Blacksburg, VA have been added as parties to this venture. Also CAMotion, Inc., Atlanta, GA; TRW Broadband Communication Network, Carson, CA; Alberta Research Council, Edmonton, Alberta, Canada; Independent Lubricant Manufacturers Association, Alexandria, VA; and State Board of Technical Colleges, St. Paul, MN have been dropped as parties to this venture. In addition, Advanced Manufacturing Sciences (IAMS) has changed its name to TechSolve, Inc., Ann Arbor, MI.

No other changes have been made in either the membership or planned activity of the group research project. Membership in this group research project remains open, and NCMS intends to file additional written notification disclosing all changes in membership.

On February 20, 1987, NCMS filed its original notification pursuant to section 6(a) of the Act. The Department of Justice published a notice in the Federal Register pursuant to Section 6(b) of the Act on March 17, 1987 (52 FR 8375).

The last notification was filed with the Department on July 19, 2000. A notice has not yet been published in the Federal Register.

Constance K. Robinson,
Director of Operations, Antitrust Division.

[FR Doc. 01-18082 Filed 7-18-01; 8:45 am]

BILLING CODE 4410-11-M